DEPARTMENT OF HOMELAND SECURITY

Coast Guard

33 CFR Part 165

[Docket No. USCG-2023-0262]

Safety Zones; Annual Fireworks Displays Within the Captain of the Port, Puget Sound

AGENCY: Coast Guard, DHS.

ACTION: Notice of enforcement of regulation.

SUMMARY: The Coast Guard will enforce fourteen safety zones for annual firework displays in the Captain of the Port, Sector Puget Sound Zone during the dates and times noted under SUPPLEMENTARY INFORMATION. This action is necessary to prevent injury and to protect life and property of the maritime public from the hazards associated with the firework displays. The regulation prohibits persons and vessels from being in the regulated areas unless authorized by the Captain of the Port Puget Sound or a designated representative.

DATES: The regulations in 33 CFR 165.1332 will be enforced for the fourteen safety zones identified in the SUPPLEMENTARY INFORMATION section from 5 p.m. on July 4, 2023, through 1 a.m. on July 5, 2023.

FOR FURTHER INFORMATION CONTACT: If you have questions about this notice of enforcement, call or email Chief Warrant Officer William Martinez, Sector Puget Sound Waterways Management, Coast Guard; telephone 206-217-6051, SectorPugetSoundWWM@uscg.mil.

SUPPLEMENTARY INFORMATION: The Coast Guard will enforce regulations in 33 CFR 165.1332 for the following safety zones established for Annual Fireworks Displays within the Captain of the Port, Puget Sound Area of Responsibility. These regulations will be enforced from 5 p.m. on July 4, 2023, through 1 a.m. on July 5, 2023, at the following locations:

Event name | Location | Latitude | Longitude
Seattle Seafair | Lake Washington | 47°34.333′ N | 122°16.017 W
City of Anacortes | Fidalgo Bay | 48°30.016′ N | 122°36.154′ W
Mercer Island Celebration | Mercer Island | 47°35.517′ N | 122°13.233′ W
Fireworks Display | Henderson Bay | 47°21.8′ N | 122°38.367′ W
Kenmore Community Fireworks Display | Lake Forest Park | 47°44.783′ N | 122°16.917′ W
Kingston Fireworks | Appletree Cove | 47°47.65′ N | 122°29.917′ W
Brewster Fire Department Fireworks | Brewster | 48°05.362′ N | 119°47.147′ W
Port Angeles | Port Angeles Harbor | 48°07.033′ N | 123°24.967′ W
Friday Harbor Independence | Friday Harbor | 48°32.255′ N | 123°0.654′ W
Roche Harbor Fireworks | Roche Harbor | 48°36.7′ N | 123°09.5′ W
True Colors Event | Blaine | 48°59.488′ N | 122°46.339′ W
City of Mount Vernon Fireworks | Edgewater Park | 48°25.178′ N | 122°20.424′ W

The special requirements listed in 33 CFR 165.1332(b) apply to the activation and enforcement of these safety zones. All non-participants are prohibited from entering, transiting through, anchoring in, or remaining within the regulated area unless authorized by the Captain of the Port or their designated representative. The Coast Guard may be assisted by other Federal, State, or local law enforcement agencies in enforcing this regulation.

In addition to the publication of this document in the Federal Register, the Coast Guard will issue advanced notification of enforcement of these safety zones via the Broadcast Notice to Mariners and Local Notice to Mariners.

Dated: April 10, 2023.
Y. Moon,
Captain, U.S. Coast Guard, Acting Captain of the Port Sector Puget Sound.

[FR Doc. 2023-08014 Filed 4-14-23; 8:45 am]

BILLING CODE 9110-04-P